DEPARTMENT OF HOMELAND SECURITY

Coast Guard

33 CFR Part 165

[Docket No. USCG-2013-0320]

RIN 1625-AA00

Safety Zone, Chicago Harbor, Navy Pier Southeast, Chicago, IL

AGENCY: Coast Guard, DHS.

ACTION: Notice of enforcement of regulation.

SUMMARY: The Coast Guard will enforce the Navy Pier Southeast Safety Zone within the Chicago Harbor during specified periods on from September 12, 2015 through October 31, 2015. This action is necessary and intended to ensure safety of life on the navigable waters of the United States immediately prior to, during, and immediately after multiple firework events. During the enforcement periods listed below, no person or vessel may enter the safety zone without permission of the Captain of the Port Lake Michigan.

DATES: The regulations in 33 CFR 165.931 will be enforced at specified times between 8:00 p.m. on September 12, 2015 through 10:00 p.m. on October 31, 2015.

FOR FURTHER INFORMATION CONTACT: If you have questions on this document, call or email LT Lindsay Cook, Waterways Management Division, Marine Safety Unit Chicago, telephone 630-986-2155, email address D09-DG-MSUChicago-Waterways@uscg.mil.

SUPPLEMENTARY INFORMATION: The Coast Guard will enforce the Safety Zone; Chicago Harbor, Navy Pier Southeast, Chicago, IL listed in 33 CFR 165.931, on September 12, 2015 at 8:00 p.m. until 9:00 p.m., September 27, 2015 at 7:45 p.m. until 8:30 p.m., and on October 31, 2015 at 9:15 p.m. until 10:00 p.m.

This safety zone encompasses the waters of Lake Michigan within Chicago Harbor bounded by coordinates beginning at 41°53′26.5″ N., 087°35′26.5″ W.; then south to 41°53′7.6″ N., 087°35′26.3″ W.; then west to 41°53′7.6″ N., 087°36′23.2″ W.; then north to 41°53′26.5″ N., 087°36′24.6″ W. then east back to the point of origin (NAD 83). All vessels must obtain permission from the Captain of the Port Lake Michigan, or an on-scene representative to enter, move within or exit the safety zone. Vessels and persons granted permission to enter the safety zone shall obey all lawful orders or directions of the Captain of the Port Lake Michigan, or an on-scene representative.

This document is issued under authority of 33 CFR 165.931 and 5 U.S.C. 552(a). In addition to this publication in the Federal Register, the Coast Guard will provide the maritime community with advance notification of these enforcement periods via broadcast Notice to Mariners or Local Notice to Mariners. If the Captain of the Port Lake Michigan determines that the safety zone need not be enforced for the full duration stated in this notice, he or she may suspend enforcement and provide notice via a Broadcast Notice to Mariners. The Captain of the Port Lake Michigan or an on-scene representative may be contacted via VHF Channel 16.

Dated: September 9, 2015.
K.M. Moser,
Commander, U.S. Coast Guard, Acting Captain of the Port Lake Michigan.

[FR Doc. 2015-25728 Filed 10-7-15; 8:45 am]

BILLING CODE 9110-04-P